DEPARTMENT OF ENERGY

Federal Energy Regulatory Commission

Combined Notice of Filings

Take notice that the Commission has received the following Natural Gas Pipeline Rate and Refund Report filings:

Filings Instituting Proceedings

Docket Numbers: RP24-416-000.

Applicants: Viking Gas Transmission Company.

Description: § 4(d) Rate Filing: Electric Power Cost Recovery Adjustment—2024 Rate to be effective 4/1/2024.

Filed Date: 2/22/24.

Accession Number: 20240222-5098.

Comment Date: 5 p.m. ET 3/5/24.

Docket Numbers: RP24-417-000.

Applicants: Northern Natural Gas Company.

Description: § 4(d) Rate Filing: 20240222 Negotiated Rate to be effective 2/23/2024.

Filed Date: 2/22/24.

Accession Number: 20240222-5128.

Comment Date: 5 p.m. ET 3/5/24.

Docket Numbers: RP24-418-000.

Applicants: El Paso Natural Gas Company, L.L.C.

Description: § 4(d) Rate Filing: Negotiated Rate Agreements Filing (Citadel_EDF) to be effective 4/1/2024.

Filed Date: 2/22/24.

Accession Number: 20240222-5151.

Comment Date: 5 p.m. ET 3/5/24.

Docket Numbers: RP24-419-000.

Applicants: Kinder Morgan Louisiana Pipeline LLC.

Description: Compliance filing: Penalty Revenue Crediting Report—KMLP 12 months ending December 2023 to be effective N/A.

Filed Date: 2/23/24.

Accession Number: 20240223-5018.

Comment Date: 5 p.m. ET 3/6/24.

Docket Numbers: RP24-420-000.

Applicants: Cove Point LNG, LP.

Description: § 4(d) Rate Filing: Cove Point—2024 Annual EPCA to be effective 4/1/2024.

Filed Date: 2/23/24.

Accession Number: 20240223-5022.

Comment Date: 5 p.m. ET 3/6/24.

Docket Numbers: RP24-421-000.

Applicants: Cove Point LNG, LP.

Description: § 4(d) Rate Filing: Cove Point—2024 Annual Fuel Retainage to be effective 4/1/2024.

Filed Date: 2/23/24.

Accession Number: 20240223-5027.

Comment Date: 5 p.m. ET 3/6/24.

Docket Numbers: RP24-422-000.

Applicants: Eastern Gas Transmission and Storage, Inc.

Description: § 4(d) Rate Filing: EGTS—2024 Fuel Retention Percentages to be effective 4/1/2024.

Filed Date: 2/23/24.

Accession Number: 20240223-5028.

Comment Date: 5 p.m. ET 3/6/24.

Docket Numbers: RP24-423-000.

Applicants: Natural Gas Pipeline Company of America LLC.

Description: § 4(d) Rate Filing: Negotiated Rate Agreement Filing—A&R Nicor Gas Company to be effective 3/1/2024.

Filed Date: 2/23/24.

Accession Number: 20240223-5060.

Comment Date: 5 p.m. ET 3/6/24.

Docket Numbers: RP24-424-000.

Applicants: Kinder Morgan Illinois Pipeline LLC.

Description: Compliance filing: Penalty Revenue Annual Report for 2023 to be effective N/A.

Filed Date: 2/23/24.

Accession Number: 20240223-5069.

Comment Date: 5 p.m. ET 3/6/24.

Docket Numbers: RP24-425-000.

Applicants: Millennium Pipeline Company, LLC.

Description: § 4(d) Rate Filing: RAM 2024 to be effective 4/1/2024.

Filed Date: 2/23/24.

Accession Number: 20240223-5094.

Comment Date: 5 p.m. ET 3/6/24.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 23, 2024.
Debbie-Anne A. Reese,
Acting Secretary.

[FR Doc. 2024-04266 Filed 2-28-24; 8:45 am]

BILLING CODE 6717-01-P